DEPARTMENT OF VETERANS AFFAIRS

Advisory Committee on Homeless Veterans; Notice of Meeting

The Department of Veterans Affairs (VA) gives notice under Public Law 92-463 (Federal Advisory Committee Act) that a meeting of the Advisory Committee on Homeless Veterans will be held from Monday, October 25, 2004, through Wednesday, October 27, 2004, in Room 427 at the Doubletree Hotel, 3203 Quebec Street, Denver, CO 80207. On October 25, the session will convene at 1 p.m. and end at 4:30 p.m. On October 26-27, the sessions will convene at 8 a.m. The session will end at 4 p.m. on October 26 and at 12 noon on October 27. The meeting is open to the public.

The purpose of the Committee is to advise the Secretary of Veterans Affairs with an ongoing assessment of the effectiveness of the policies, organizational structures, and services of the Department in assisting homeless veterans. The Committee shall assemble and review information relating to the needs of homeless veterans and provide ongoing advice on the most appropriate means of providing assistance to homeless veterans. The Committee will make recommendations to the Secretary regarding such activities.

In the morning of October 25, the Committee will tour Chronic Homeless Initiative and Homeless Grant and Per Diem Programs in Denver, Colorado. In the afternoon, the Committee will receive follow-up information about improving access to mental health and substance abuse services, review of initiatives for veterans who have been incarcerated, and review VA's Compensated Work Therapy Program. On October 26, the Committee will receive reports and follow-up information in response to its 2004 Annual Report to the Secretary. On October 27, the Committee will continue to receive reports and hold discussions on issues of housing, employment, healthcare and overall coordination of services for homeless veterans.

Those wishing to attend the meeting should contact Mr. Pete Dougherty, Designated Federal Officer, at (202) 273-5764. No time will be allocated for receiving oral presentations during the public meeting. However, the Committee will accept written comments from interested parties on issues affecting homeless veterans. Such comments should be referred to the Committee at the following address: Advisory Committee on Homeless Veterans, Homeless Veterans Programs Office (075D), U.S. Department of Veterans Affairs, 810 Vermont Avenue, NW., Washington, DC 20420.

Dated: September 13, 2004.
By direction of the Secretary.
E. Philip Riggin,
Committee Management Officer.

[FR Doc. 04-21409 Filed 9-22-04; 8:45 am]

BILLING CODE 8320-01-M